DEPARTMENT OF HEALTH AND HUMAN SERVICES

Centers for Disease Control and Prevention

[60 Day-05-05CH)

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Epidemiologic HIV/AIDS Research among African American and Hispanic Women at Risk for HIV Infection in the Southern United States and Puerto Rico—New—National Center for HIV/AIDS, STD and TB Prevention (NCHSTP), Centers for Disease Control and Prevention (CDC).

Background and Brief Description

CDC is requesting OMB approval to administer a questionnaire and test for HIV and other sexually transmitted infections (STI) in heterosexual African American and Hispanic women at four sites in the southern United States and Puerto Rico. This proposed data collection will occur over 3 years.

This study is designed to assess risk factors for HIV infection in these women and addresses goals of CDC's “HIV Prevention Strategic Plan Through 2005”. CDC plans to meet specific goals by (1) decreasing the number of persons at high risk of acquiring or transmitting HIV infection; (2) increasing the proportion of HIV-infected persons who know they are infected; (3) increasing the number of HIV-infected persons who are linked to appropriate prevention, care, and treatment services; and (4) strengthening the capacity nationwide to monitor the HIV epidemic. In addition, project data will provide important epidemiologic information useful for the development and targeting of future HIV prevention activities.

A sample of 2000 female study participants (500 per site) will be recruited directly from specific venues (e.g health clinics, etc.), by word of mouth, and through other site designated strategies. They will receive HIV and STI counseling and testing and respond to a one-time computerized questionnaire capturing information on demographics, risk behaviors, attitudes and knowledge related to HIV/STD transmission and prevention. The testing and interview will take approximately 1 hour to complete for those who agree to participate in the study and 10 minutes to complete for those who decline to enroll. There is no cost to respondents except for their time.

Estimate of Annualized Burden Table
Respondents | Number of respondents | Number of respondents per respondent | Burden per response | Total burden hours
Women—screening interview | 3460 | 1 | 10/60 | 577
Women—completed interview | 2000 | 1 | 1 | 2000
Total |  |  |  | 2577

Dated: May 26, 2005.
Betsey Dunaway,
Acting Reports Clearance Officer, Centers for Disease Control and Prevention.

[FR Doc. 05-10951 Filed 6-1-05; 8:45 am]

BILLING CODE 4163-18-M